DEPARTMENT OF HEALTH AND HUMAN SERVICES

Health Resources and Services Administration

Notification of Exception to Competition

AGENCY: Health Resources and Services Administration, HHS.

ACTION: Notification of Exception to Competition.

SUMMARY: The Health Resources and Services Administration (HRSA) is issuing a non-competitive program expansion supplement to the National Health Care for the Homeless Council (NHCHC) to provide expanded training and technical assistance to HRSA-funded grantees serving individuals who are homeless.

Authority: This activity is under the authority of the Public Health Service Act, section 330(l).

Catalog of Federal Domestic Assistance Number: 93.224.

Background: The National Health Care for the Homeless Council (NHCHC) is a cooperative agreement grantee that provides training and technical assistance support to health centers that serve homeless individuals and families.

The NHCHC requires supplemental funding to provide, through expanded regional and national training activities, a broader and enriched menu of support for HRSA grantees, including Health Care for the Homeless (HCH) administrators, clinicians, and members of HCH Boards of Directors and consumer advisory groups.

Amount: The amount of the award is $225,000.

Project Period: July 1, 2006, to June 30, 2008.

Budget Period Supplemented: July 1, 2007, to June 30, 2008.

Justification for The Exception to Competition: Given the recent growth of the HCH component of HRSA's Health Center program, it is critical that expanded regional and national training be provided in as timely a manner as possible. This supplemental request is being awarded noncompetitively because, at this time, there are no other organizations with the expertise to complete these activities, and no other organization is prepared to provide these services within the timeframe in which they are needed. Due to the emerging and urgent needs of the HCH program, this supplemental request and the activities proposed are essential to ensuring successful delivery of health care to the target population.

FOR FURTHER INFORMATION CONTACT: Jean L. Hochron, M.P.H., Director, Office of Minority and Special Populations, Bureau of Primary Health Care, Health Resources and Services Administration, 5600 Fishers Lane, Room 16-105, Rockville, MD 20857; phone: 301-594-4437, FAX 301-443-0248, e-mail jhochron@hrsa.gov.

Dated: January 8, 2008.
Elizabeth M. Duke,
Administrator.

[FR Doc. E8-582 Filed 1-14-08; 8:45 am]

BILLING CODE 4165-15-P